MERIT SYSTEMS PROTECTION BOARD

Public Availability of the Merit Systems Protection Board FY 2015 Service Contract Inventory

AGENCY: Merit Systems Protection Board.

ACTION: Notice.

SUMMARY: The Merit Systems Protection Board (MSPB) is publishing this notice to advise the public of the availability of its FY 2015 Service Contract Inventory as required by the Consolidated Appropriations Act of 2010. This inventory provides information on service contract actions over $25,000 awarded in FY 2015. The inventory was developed in accordance with guidance issued on November 5, 2010 by the Office of Management and Budget's Office of Federal Procurement Policy (OFPP). The OFPP's guidance is available at: https://obamawhitehouse.archives.gov/sites/default/files/omb/procurement/memo/service-contract-inventories-guidance-11052010.pdf. The MSPB posted its inventory on its Web site at https://www.mspb.gov/contact/contracting.htm.

FOR FURTHER INFORMATION CONTACT: Cynthia Richardson, Contracting Officer, Office of Finance and Administrative Management, Merit Systems Protection Board, 1615 M Street NW., Washington, DC 20419; telephone 202-254-4408; email cynthia.richardson@mspb.gov.

Jennifer Everling,
Acting Clerk of the Board.

[FR Doc. 2017-24904 Filed 11-16-17; 8:45 am]

BILLING CODE 7400-01-P